ENVIRONMENTAL PROTECTION AGENCY

40 CFR Part 52

[EPA-R06-OAR-2007-0526; FRL-9130-8]

Approval and Promulgation of Air Quality Implementation Plans; Texas; Revision To Control Volatile Organic Compound Emissions in the Houston/Galveston/Brazoria 8-Hour Ozone Nonattainment Area

AGENCY: Environmental Protection Agency (EPA).

ACTION: Direct final rule.

SUMMARY: The Environmental Protection Agency (EPA) is approving a revision to the Texas State Implementation Plan (SIP). The revision adds additional requirements to control volatile organic compound (VOC) emissions from storage tanks, transport vessels and marine vessels in the Houston/Galveston/Brazoria (HGB) 1997 8-hour ozone nonattainment area, which consists of Brazoria, Chambers, Fort Bend, Galveston, Harris, Liberty, Montgomery and Waller counties. Specifically, this revision subjects owners or operators of VOC storage tanks, transport vessels, and marine vessels located in the HGB 1997 8-hour ozone nonattainment area to more stringent control, monitoring, and recordkeeping requirements. EPA is approving the SIP revision because it will help lower ozone levels in the HGB area by reducing VOC emissions. EPA is approving the revision pursuant to section 110 and part D of the Clean Air Act (CAA).

DATES: This direct final rule will be effective May 28, 2010 without further notice unless EPA receives relevant adverse comments by April 28, 2010. If adverse comments are received, EPA will publish a timely withdrawal of the direct final rule in the Federal Register informing the public that the rule will not take effect.

ADDRESSES: Submit your comments, identified by Docket No. EPA-R06-OAR-2007-0526, by one of the following methods:

• Federal e-Rulemaking Portal: http://www.regulations.gov.

• Follow the online instructions for submitting comments.

• EPA Region 6 “Contact Us” Web site: http://epa.gov/region6/r6coment.htm. Please click on “6PD (Multimedia)” and select “Air” before submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7242.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

Instructions: Direct your comments to Docket No. EPA-R06-OAR-2007-0526. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection during official business hours, by appointment, at the Texas Commission on Environmental Quality, Office of Air Quality, 12124 Park 35 Circle, Austin, Texas 78753.

FOR FURTHER INFORMATION CONTACT: Carl Young, Air Planning Section (6PD-L), Environmental Protection Agency, Region 6, 1445 Ross Avenue, Suite 700, Dallas, Texas 75202-2733, telephone 214-665-6645; fax number 214-665-7263; e-mail address young.carl@epa.gov.

SUPPLEMENTARY INFORMATION: Throughout this document, whenever “we”, “us”, or “our” is used, we mean the EPA.

Outline

I. What Action Is EPA Taking?

II. What Is a SIP?

III. What Is the Background for This Action?

IV. What Is EPA's Evaluation of the Revision?

V. Statutory and Executive Order Reviews

I. What Action Is EPA Taking?

We are approving a revision to the Texas SIP that adds additional requirements to control VOC emissions from storage tanks, transport vessels and marine vessels in the HGB area, which consists of Brazoria, Chambers, Fort Bend, Galveston, Harris, Liberty, Montgomery and Waller counties. The revision was adopted by the State of Texas on May 23, 2007 and submitted to EPA on June 13, 2007. The revision amended Title 30 of the Texas Administrative Code, Chapter 115 (30 TAC 115) by adding a new section 115.110 (Definitions) and revising sections 115.112-115.117, 115.119, 115.541-115.547 and 115.549. The revision requires that tanks and vessels in the HGB area store volatile organic liquids at petroleum refineries, chemical plants, gasoline storage terminals, bulk terminals, pipeline breakout stations, and oil and natural gas production sites under additional controls.

Specifically, for the HGB area the revision requires:

• More stringent controls for tank fittings on floating roof tanks and restrictions on floating roof tank landings;

• Control of VOC flash emissions from crude oil and condensate storage tanks at oil and gas exploration and production sites and pipeline breakout stations with uncontrolled flash emissions greater than 25 tons per year;

• Control of VOC emissions from the degassing of storage tanks with a nominal capacity of 250,000 gallons or more, or with a nominal capacity of 75,000 gallons or more storing liquids with a true vapor pressure greater than 2.6 pounds per square inch absolute (psia);

• Control and monitoring of degassing vapors from storage vessels, transport vessels, and marine vessels; and

• Recordkeeping to validate compliance.

For more information on the requirements please see our Technical Support Document (TSD) found in the electronic docket or 30 TAC 115, Subchapter B, Division 1 (Storage of Volatile Organic Compounds) and Subchapter F, Division 3 (Degassing or Cleaning of Stationary, Marine and Transport Vessels). The electronic docket can be found at the Web site http://www.regulations.gov (Docket number EPA-R06-OAR-2007-0526).

Control of VOC emissions will help the area reduce ambient levels of ozone. Our approval will make the revised regulations federally enforceable. We are approving the revision pursuant to section 110 and part D of the CAA and EPA's regulations.

We are publishing this rule without prior proposal because we view this as a noncontroversial amendment and anticipate no relevant adverse comments. However, in the proposed rules section of this Federal Register publication, we are publishing a separate document that will serve as the proposal to approve the SIP revision if relevant adverse comments are received. This rule will be effective on May 28, 2010 without further notice unless we receive relevant adverse comment by April 28, 2010. If we receive relevant adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

II. What Is a SIP?

Section 110 of the CAA requires states to develop air pollution regulations and control strategies to ensure that air quality meets the national ambient air quality standards (NAAQS) established by EPA. NAAQS are established under section 109 of the CAA and currently address six criteria pollutants: Carbon monoxide, nitrogen dioxide, ozone, lead, particulate matter, and sulfur dioxide.

A SIP is a set of air pollution regulations, control strategies, other means or techniques, and technical analyses developed by the state, to ensure that the state meets the NAAQS. It is required by section 110 and other provisions of the CAA. A SIP protects air quality primarily by addressing air pollution at its point of origin. A SIP can be extensive, containing state regulations or other enforceable documents, and supporting information such as emissions inventories, monitoring networks, and modeling demonstrations. Each state must submit regulations and control strategies to EPA for approval and incorporation into the federally-enforceable SIP.

III. What Is the Background for This Action?

Inhaling ozone, even at low levels, can trigger a variety of health problems including chest pains, coughing, nausea, throat irritation, and congestion. It can also worsen bronchitis and asthma, and reduce lung capacity. VOCs and oxides of nitrogen (NOx) are known as “ozone precursors”, as they react with oxygen and sunlight to form ozone. Motor vehicle exhaust and industrial emissions, gasoline vapors and chemical solvents emit VOC and NOx. Controlling sources of VOC and NOx emissions can lower ozone levels in the ambient air.

On July 18, 1997, we promulgated an 8-hour ozone standard of 0.08 parts per million (ppm), which is more protective than the previous 1-hour ozone standard (62 FR 38855).¹ On April 30, 2004, we published designations and classifications for the 1997 8-hour ozone standard (69 FR 23858). The HGB area, which consists of Brazoria, Chambers, Fort Bend, Galveston, Harris, Liberty, Montgomery and Waller counties was classified as a moderate ozone nonattainment area, with an attainment date no later than June 15, 2010. On October 1, 2008, at the request of the Governor of Texas, we reclassified the area as a severe ozone nonattainment area with an attainment date no later than June 15, 2019 (73 FR 56983).

¹ EPA issued revised 8-hour ozone standards on March 27, 2008 (73 FR 16436) and proposed to set different standards on January 19, 2010 (75 FR 2938). This process is ongoing and does not affect EPA's action here.

The State of Texas found that certain types of VOC storage tank emissions, including degassing, flash, and floating roof landing loss emissions, have been unreported or underreported in the HGB area. The State revised the VOC control regulations in the SIP to help reduce emissions from these sources in the HGB area. The revision to the SIP was adopted by the State on May 23, 2007 and submitted it to EPA on June 13, 2007.

IV. What Is EPA's Evaluation of the Revision?

We have evaluated the Chapter 115 revision and find they enhance the SIP by reducing emissions from VOC storage tanks, transport vessels and marine vessels in the HGB area. We have reached this conclusion because these revisions for the HGB area require additional controls on VOC emissions from these sources. By lowering VOC emissions, these rules will help lower ozone levels in the HGB area. In addition, these revisions improve rules that EPA previously approved (73 FR 10383, February 27, 2008) as meeting the Reasonably Available Control Technology of the Clean Air Act. Therefore, we are finding that these rules continue to implement RACT for this source category. For a discussion of the rules and how the rules improve the SIP see the technical support document for this action. For more information on our evaluation, please see our TSD found in the electronic docket.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 28, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Ozone, Volatile organic compounds.

Dated: March 12, 2010.
Al Armendariz,
Regional Administrator, Region 6.

40 CFR part 52 is amended as follows:

PART 52—[AMENDED]

1. The authority citation for part 52 continues to read as follows:

Authority: 42 U.S.C. 7401 et seq.

Subpart SS—Texas

2. The table in § 52.2270(c) entitled “EPA Approved Regulations in the Texas SIP” under Chapter 115 (Reg 5) is amended by:

a. Adding an entry for Section 115.110 under Subchapter B, Division 1, in numerical order.

b. Revising the entries for Sections 115.112-115.117 and 115.119 under Subchapter B, Division 1.

c. Revising the entries for Sections 115.541-115.547 and 115.549 under Subchapter F, Division 3.

The revisions and additions read as follows:

§ 52.2270 Identification of plan.

* * * * *

(c) * * *

EPA-Approved Regulations in the Texas SIP
State citation | Title/subject | State approval/submittal date | EPA approval date | Explanation
* * * * * * *
Chapter 115 (Reg 5)—Control of Air Pollution from Volatile Organic Compounds
* * * * * * *
Subchapter B—General Volatile Organic Compound Sources
Division 1. Storage of Volatile Organic Compounds
Section 115.110 | Definitions | 5/23/2007 | 3/29/2010 [Insert FR page number where document begins] |
Section 115.112 | Control Requirements | 5/23/2007 | 3/29/2010 [Insert FR page number where document begins] |
Section 115.113 | Alternate Control Requirements | 5/23/2007 | 3/29/2010 [Insert FR page number where document begins] |
Section 115.114 | Inspection Requirements | 5/23/2007 | 3/29/2010 [Insert FR page number where document begins] |
Section 115.115 | Approved Test Methods | 5/23/2007 | 3/29/2010 [Insert FR page number where document begins] |
Section 115.116 | Monitoring and Recordkeeping Requirements | 5/23/2007 | 3/29/2010 [Insert FR page number where document begins] |
Section 115.117 | Exemptions | 5/23/2007 | 3/29/2010 [Insert FR page number where document begins] |
Section 115.119 | Counties and Compliance Schedules | 5/23/2007 | 3/29/2010 [Insert FR page number where document begins] |
* * * * * * *
Subchapter F—Miscellaneous Industrial Sources
* * * * * * *
Division 3: Degassing or Cleaning of Stationary, Marine, and Transport Vessels
Section 115.541 | Emission Specifications | 5/23/2007 | 3/29/2010 [Insert FR page number where document begins] |
Section 115.542 | Control Requirements | 5/23/2007 | 3/29/2010 [Insert FR page number where document begins] |
Section 115.543 | Alternate Control Requirements | 5/23/2007 | 3/29/2010 [Insert FR page number where document begins] |
Section 115.544 | Inspection Requirements | 5/23/2007 | 3/29/2010 [Insert FR page number where document begins] |
Section 115.545 | Approved Test Methods | 5/23/2007 | 3/29/2010 [Insert FR page number where document begins] |
Section 115.546 | Monitoring and Recordkeeping Requirements | 5/23/2007 | 3/29/2010 [Insert FR page number where document begins] |
Section 115.547 | Exemptions | 5/23/2007 | 3/29/2010 [Insert FR page number where document begins] |
Section 115.549 | Counties and Compliance Schedules | 5/23/2007 | 3/29/2010 [Insert FR page number where document begins] |
* * * * * * *

[FR Doc. 2010-6795 Filed 3-26-10; 8:45 am]

BILLING CODE 6560-50-P